DEPARTMENT OF THE TREASURY

Alcohol and Tobacco Tax and Trade Bureau

Proposed Information Collections; Comment Request

AGENCY: Alcohol and Tobacco Tax and Trade Bureau, Treasury.

ACTION: Notice and request for comments.

SUMMARY: As part of our continuing effort to reduce paperwork and respondent burden, and as required by the Paperwork Reduction Act of 1995, we invite comments on the proposed or continuing information collections listed below in this notice.

DATES: We must receive your written comments on or before May 14, 2010.

ADDRESSES: You may send comments to Mary A. Wood, Alcohol and Tobacco Tax and Trade Bureau, at any of these addresses:

• P.O. Box 14412, Washington, DC 20044-4412;

• 202-453-2686 (facsimile); or

• formcomments@ttb.gov (e-mail).

Please send separate comments for each specific information collection listed below. You must reference the information collection's title, form or recordkeeping requirement number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-453-2265.

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following forms and recordkeeping requirements:

Title: Brewer's Notice, and Letterhead applications and notices filed by Brewers.

OMB Control Number: 1513-0005.

TTB Form Number: 5130.10.

TTB Record Number: 5130/2.

Abstract: The Internal Revenue Code requires brewers to file a notice of intent to operate a brewery. TTB Form 5130.10 is similar to a permit and, when approved by TTB, is a brewer's authorization to operate. Letterhead applications and notices are necessary to identify brewery activities so that TTB may ensure that proposed operations do not jeopardize Federal revenues.

Current Actions: We are submitting this information collection for extension purposes only. The information collection, estimated number of responses, and estimated total annual burden hours are unchanged.

Type of Review: Extension of a currently approved collection.

Affected Public: Business or other for-profit.

Estimated Number of Responses: 9,792.

Estimated Total Annual Burden Hours: 8,976.

Title: Principal Place of Business on Beer Labels.

OMB Control Number: 1513-0085.

TTB Record Number: 5130/5.

Abstract: TTB regulations permit domestic brewers who operate more than one brewery to show as their address on labels and kegs of beer, their “principal place of business” address. This label option may be used in lieu of showing the actual place of production or of listing all of the brewer's locations on the label.

Current Actions: We are submitting this information collection for extension purposes only. The information collection, estimated number of responses, and estimated total annual burden hours are unchanged.

Type of Review: Extension of a currently approved collection.

Affected Public: Business or other for-profit.

Estimated Number of Responses: 1,632.

Estimated Total Annual Burden Hours: One (1).

Title: Marks on Equipment and Structures, and Marks and Labels on Containers of Beer.

OMB Control Number: 1513-0086.

TTB Record Numbers: 5230/3 and 5130/4.

Abstract: Marks, signs, and calibrations are necessary on equipment and structures for identifying major equipment for accurate determination of tank contents, and for the segregation of taxpaid and nontaxpaid beer. Marks and labels on containers of beer are necessary to inform consumers of container contents and to identify the brewer and place of production.

Current Actions: We are submitting this information collection for extension purposes only. The information collection, estimated number of responses, and estimated total annual burden hours remain unchanged.

Type of Review: Extension of a currently approved collection.

Affected Public: Business or other for-profit.

Estimated Number of Responses: 1,632.

Estimated Total Annual Burden Hours: One (1).

Title: Pay.gov User Agreement.

OMB Control Number: 1513-0117.

TTB Form Number: 5000.31.

Abstract: The Pay.gov User Agreement will be used to identify, validate, approve, and register qualified users so they may submit electronic forms via the Pay.gov system.

Current Actions: We are submitting this information collection for extension purposes only. The information collection, estimated number of responses, and estimated total annual burden hours remain unchanged.

Type of Review: Extension of a currently approved collection.

Affected Public: Business or other for-profit.

Estimated Number of Responses: 5,800.

Estimated Total Annual Burden Hours: 483.

Title: Permit Application Questions, Amended Permit Application Questions, Claims Questions, and other Questionnaires.

OMB Control Number: 1513-0124.

TTB Form and Record Number: None.

Abstract: TTB, in an effort to improve its Customer Service, uses these questionnaires to keep track of its customer service quality and progress, as well as to identify potential needs, problems, and opportunities for improvement. These questionnaires will be used primarily in telephone interviews and TTB's Expo, but may be used on other occasions as well. The respondents for the telephone interviews are applicants, permittees, and claimants pursuant to the Federal Alcohol Administration Act, the Internal Revenue Code, and TTB regulations. The Expo survey is taken by anyone in attendance. There is no cost to respondents other than their time, and responding to these customer service questionnaires is voluntary.

Current Actions: We are submitting this generic information collection request for extension purposes only. The information collection, estimated number of responses, and estimated total annual burden hours remain unchanged.

Type of Review: Extension of a currently approved collection.

Affected Public: Business or other for-profit.

Total Number of Responses Requested: 107,500.

Total Burden Hours Requested: 53,000.

Title: Distilled Spirits Bond.

OMB Control Number: 1513-0125.

TTB Form Number: 5110.56.

Abstract: This form is used by Distilled Spirits Plants (DSPs) and Alcohol Fuel Plants to file bond coverage with TTB. Using this form, these plants may file coverage and/or withdraw coverage for one plant or multiple plants. DSPs may file this bond and include operations coverage for adjacent wine cellars. The bond may be secured through a surety company or it may be secured with collateral (cash, Treasury Bonds, or Treasury Notes). The bond protects the revenue assigned to distilled spirits on which excise tax has not been paid. Should the industry member fail to pay its tax liability, including any penalties and interest, TTB may obligate the funds used to secure the bond to satisfy the debt.

Current Actions: We are submitting this information collection for extension purposes only. The information collection, estimated number of responses, and estimated total annual burden hours remain unchanged.

Type of Review: Extension of a currently approved collection.

Affected Public: Business or other for-profit; Farms.

Estimated Number of Responses: 232.

Estimated Total Annual Burden Hours: 232.

Dated: March 8, 2010.
Theresa McCarthy,
Acting Director, Regulations and Rulings Division.

[FR Doc. 2010-5509 Filed 3-12-10; 8:45 am]

BILLING CODE 4810-31-P